DEPARTMENT OF HOMELAND SECURITY

33 CFR Part 175

[Docket No. USCG-2001-10163]

RIN 1625-AA31

Federal Requirements for Propeller Injury Avoidance Measures

AGENCY: Coast Guard, DHS.

ACTION: Notice of proposed rulemaking; withdrawal.

SUMMARY: The Coast Guard is withdrawing its notice of proposed rulemaking that would require owners of non-planing recreational houseboats with propeller-driven propulsion located aft of the transom to either install a propeller guard or use a combination of other devices to avoid propeller injuries. The rulemaking is being withdrawn after reconsideration of which vessels would be subject to the proposed rule, the nature of the safety measures to be required, and the costs that would likely result.

DATES: The notice of proposed rulemaking published at 66 FR 63645, December 10, 2001, is withdrawn on October 18, 2007.

FOR FURTHER INFORMATION CONTACT: Jeff Ludwig, Project Manager, Office of Boating Safety, U.S. Coast Guard, by telephone at 202-372-1061 or by e-mail at Jeffrey.A.Ludwig@uscg.mil.

SUPPLEMENTARY INFORMATION:

Background

On December 10, 2001, the Coast Guard published a notice of proposed rulemaking (NPRM) entitled “Federal Requirements For Propeller Injury Avoidance Measures” in the Federal Register (66 FR 63645). The NPRM described a proposed Coast Guard requirement that owners of non-planing recreational houseboats with propeller-driven propulsion located aft of the transom install one of two propulsion unit measures or employ three combined measures. This proposal responded to recommendations made by the National Boating Safety Advisory Council (NBSAC). The NPRM was based on an expectation that a significant reduction in the number of boaters who are seriously or fatally injured when struck by a non-planing recreational houseboat with propeller-driven propulsion would occur.

Discussion of Comments

The Coast Guard received approximately 190 comments regarding the NPRM. Comments were received from those who have been injured by boat propellers; the relatives and friends of those injured or killed in such accidents; health care providers; boating safety and environmental advocacy groups; businesses and business associations; state and federal government agencies; and members of the general public.

Many commenters supported the proposed rule in order to better protect the boating public from propeller injuries. Some of those also advocated reducing the phase-in period to one year, and some advocated inclusion of pontoon houseboats under the requirements of the proposed rule. Among those who generally supported the proposed rule, some preferred using propeller guards over swim ladder interlock systems because they expected propeller guards to better protect swimmers. A few commenters also suggested increased costs could be passed on from manufacturers and rental companies to consumers.

Some commenters opposed the proposed rule because they perceived the number of casualties as insufficient to justify the proposed rule and argued the costs of implementation would be significantly higher than estimated in the NPRM. Many of these commenters also expressed concerns about the high maintenance costs associated with propeller guards, the increased danger of collisions when swim ladder interlock systems disable propellers, and the lack of practical benefit to be gained from clear view devices because of the length of many houseboats. A few suggested the proposed rule would be unenforceable or otherwise ineffective and advocated improved boater education.

Some commenters requested a more precise definition of houseboat, particularly whether monohulls and pontoon designs would be subject to the same requirements, and more detailed guidance on acceptable propeller guards and swim ladder interlock systems. One commenter suggested the proposed rule would effect a shift of liability from boat operators to boat manufacturers.

Withdrawal

The Coast Guard is withdrawing the NPRM published on December 10, 2001, after reconsideration of the the costs that would likely result, the characteristics of the safety measures to be required, and uncertainty concerning the appropriate definition of “houseboat.” The Coast Guard believes its resources would be better directed toward regulatory projects that would have a greater impact on propeller injury avoidance.

The NPRM estimated that propeller guards, which would be the least expensive option provided under the proposed rule, could be self-installed for approximately $300 each. Equipping the estimated 100,000 houseboats that would be covered by the rule was estimated to result in a cost of approximately $30 million. A reassessment of these costs after publication of the NPRM revealed that most boats would need to be lifted out of the water for propeller guard installation, boats with twin engines would require a guard for each engine, and installation would be beyond the capabilities of most owners and operators. For these reasons, a more realistic average cost per boat is approximately $1500, for a total cost of $150 million. This figure does not include costs of periodic maintenance to clear debris from guards or the resulting decrease in fuel efficiency.

Because of the significantly higher cost of implementing the proposed rule, the Coast Guard is exploring options that would more effectively prevent propeller injuries and impose a smaller burden on the economy. For example, requiring ignition cut-off switches on an undetermined segment of recreational, propeller-driven boats could be a more cost effective approach, and there is also room for improvement in boating safety education.

Additionally, as some of the comments pointed out, the NPRM lacked a practical definition of “houseboat,” and straightforward performance requirements for acceptable propeller guards and swim ladder interlock systems. Although not independent grounds for withdrawing this rulemaking, the need for further research to resolve these questions, and the potential negative effect of more specific performance requirements on costs, made further pursuit of this rulemaking at this time even less preferable in comparison to other alternatives.

The Coast Guard remains deeply concerned about propeller injuries, and is committed to reducing them. In doing so, though, the cost and effectiveness of alternative measures must be reasonably considered.

The Coast Guard would like to thank those who submitted comments. All comments were considered in this decision. To view comments, go to http://www.regulations.gov at any time, under “Search Documents” enter the docket number for this rulemaking (USCG-2001-10163), and click on “Submit.” You may also visit the Docket Management Facility in room W12-140 on the Ground Floor of the West Building, 1200 New Jersey Avenue, SE., Washington, DC 20590, between 9 a.m. and 5 p.m., Monday through Friday, except Federal holidays. The telephone number is 202-366-9329.

Authority

This action is taken under the authority of 46 U.S.C. 4302; Department of Homeland Security Delegation No. 0170.1.

Dated: October 10, 2007.
Howard L. Hime,
Acting Director of Commercial Regulations and Standards, United States Coast Guard.

[FR Doc. E7-20604 Filed 10-17-07; 8:45 am]

BILLING CODE 4910-15-P